DEPARTMENT OF COMMERCE

International Trade Administration

[C-351-844]

Cold-Rolled Steel Flat Products From Brazil: Rescission of Countervailing Duty Administrative Review; 2019

AGENCY: Enforcement and Compliance, International Trade Administration, Department of Commerce.

SUMMARY: The Department of Commerce (Commerce) is rescinding its administrative review of the countervailing duty (CVD) order on cold-rolled steel flat products (CRS flat products) from Brazil for the period of review (POR) January 1, 2019, through December 31, 2019.

DATES: Applicable January 11, 2021.

FOR FURTHER INFORMATION CONTACT: Alex Wood, AD/CVD Operations, Office II, Enforcement and Compliance, International Trade Administration, U.S. Department of Commerce, 1401 Constitution Avenue NW, Washington, DC 20230; telephone: (202) 482-1959.

SUPPLEMENTARY INFORMATION:

Background

On September 1, 2020, Commerce published in the Federal Register a notice of opportunity to request an administrative review of the CVD order on CRS flat products from Brazil for the POR.¹ Commerce received a timely request from Nucor Corporation and United States Steel Corporation (the petitioners), in accordance with section 751(a) of the Tariff Act of 1930, as amended (the Act), and 19 CFR 351.213(b) to conduct an administrative review of this CVD order with respect to ten companies.²

¹ See Antidumping or Countervailing Duty Order, Finding, or Suspended Investigation; Opportunity to Request Administrative Review, 85 FR 54350 (September 1, 2020).

² See Petitioners' Letter, “Cold-Rolled Steel Flat Products from Brazil: Errata to September 30, 2020 Request for Administrative Review of Countervailing Duty Order to Correct Case Number Typographical Error,” dated October 1, 2020 (requesting for review of Aperam Inox America do Sul S.A.; ArcelorMittal Brasil S.A.; Armco do Brasil S.A.; Arvedi Metalfer do Brasil; Companhia Siderurgica Nacional; NVent do Brasil Eletrometalurgica; Signode Brasileira Ltda.; Usinas Siderurgicas de Minas Gerais (Usiminas); Villares Metals S.A.; Waelzholz Brasmetal Laminacao Ltda.); and Memorandum, “Acceptance of Review Request as Timely Filed,” dated October 2, 2020.

On October 30, 2020, Commerce published in the Federal Register a notice of initiation with respect to these companies.³ On December 17, 2020, the petitioners timely withdrew their request for an administrative review with respect to all ten companies.⁴

³ See Initiation of Antidumping and Countervailing Duty Administrative Reviews, 85 FR 68845 (October 30, 2020).

⁴ See Petitioners' Letter, “Cold-Rolled Steel Flat Products from Brazil: Withdrawal of Request for Administrative Review of Countervailing Duty Order,” dated December 17, 2020.

Rescission of Administrative Review

Pursuant to 19 CFR 351.213(d)(1), Commerce will rescind an administrative review, in whole or in part, if the parties that requested a review withdraw the request within 90 days of the date of publication of the notice of initiation of the requested review. The petitioners withdrew their request for review before the 90-day deadline, and no other party requested an administrative review of this order. Therefore, we are rescinding the administrative review of the CVD order on CRS flat products from Brazil covering the period January 1, 2019, through December 31, 2019, in its entirety.

Assessment

Commerce will instruct U.S. Customs and Border Protection (CBP) to assess countervailing duties on all appropriate entries. Because Commerce is rescinding this administrative review in its entirety, the entries to which this administrative review pertained shall be assessed at rates equal to the cash deposit of estimated countervailing duties required at the time of entry, or withdrawal from warehouse, for consumption, in accordance with 19 CFR 351.212(c)(1)(i). Commerce intends to issue appropriate assessment instructions directly to CBP 15 days after the date of publication of this notice in the Federal Register.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is published in accordance with sections 751(a)(1) and 777(i)(1) of the Act and 19 CFR 351.213(d)(4).

Dated: January 5, 2021.
James Maeder,
Deputy Assistant Secretary for Antidumping and Countervailing Duty Operations.

[FR Doc. 2021-00272 Filed 1-8-21; 8:45 am]

BILLING CODE 3510-DS-P